DEPARTMENT OF DEFENSE

Office of the Secretary

[Docket ID: DoD-2015-OS-0104]

Privacy Act of 1974; System of Records

AGENCY: Defense Finance and Accounting Service, DoD.

ACTION: Notice to add a new System of Records.

SUMMARY: The Defense Finance and Accounting Service proposes to add a new system of records, T4500c, entitled “DFAS Transportation Incentive Program System (TIPS)” to manage the mass transportation program for DFAS civilian and DFAS NAF employees applying for and in receipt of mass transit subsidies.

DATES: Comments will be accepted on or before November 27, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, Defense Finance and Accounting Service, Freedom of Information/Privacy Act Program Manager, Corporate Communications, DFAS-ZCF/IN, 8899 E. 56th Street, Indianapolis, IN 46249-0150 or at (317) 212-4591.

SUPPLEMENTARY INFORMATION: The Defense Finance and Accounting Service notices for systems of records subject to the Privacy Act of 1974 (5 U.S.C. 552a), as amended, have been published in the Federal Register and are available from the address in the FOR FURTHER INFORMATION CONTACT or from the Defense Privacy and Civil Liberties Division at http://dpcld.defense.gov/.

The proposed system report, as required by 5 U.S.C. 552a(r) of the Privacy Act of 1974, as amended, was submitted on July 22, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 21, 2015.
Aaron Siegel,
Alternate OSD Federal Register Liaison Officer, Department of Defense.

T4500c

System name:

DFAS Transportation Incentive Program System (TIPS).

System location:

Defense Finance and Accounting Service, Indianapolis, 8899 East 56th Street, Indianapolis, IN 46249-0201.

Categories of individuals covered by the system:

DFAS civilian and DFAS NAF employees.

Categories of records in the system:

Name, date of birth, DoD ID Number, Employee ID Number, Point-to-point commuting expenses, commuting distance, type of mass transit used, home address, organizational affiliation of the individual, service, funding appropriation for benefit, office work number, work email address, duty/work address, transit authority card number, and usage from benefit provider.

Authority for maintenance of the system:

10 U.S.C. 113, Secretary of Defense; 5 U.S.C. 301, Departmental regulations; 5 U.S.C. 7905, Programs to encourage commuting by means other than single-occupancy motor vehicles; DoD Instruction 1000.27, Mass Transportation Benefit Program (MTBP); E.O. 12191, Federal facility ridesharing program; and E.O. 13150, Federal Workforce Transportation.

Purpose(s):

This system will manage the mass transportation program for DFAS civilian and DFAS NAF employees applying for and in receipt of mass transit subsidies.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

To the benefit provider for purposes of administering the Mass Transportation Benefit Program and/or verifying the eligibility of individuals to receive a fare subsidy pursuant to the transportation benefit program operated by DFAS.

The DoD Blanket Routine Uses published at the beginning of the DFAS compilation of systems of records notices may apply to this system. The complete list of DoD blanket routine uses can be found online at: http://dpcld.defense.gov/Privacy/SORNsIndex/BlanketRoutineUses.aspx.

Policies and practices for storing, retrieving, accessing, retaining, and disposing of records in the system:

Storage:

Paper records and electronic storage media.

Retrievability:

Retrieved by name and/or Employee ID Number.

Safeguards:

Records are maintained in a controlled facility. Physical entry is restricted by the use of locks, guards, and is accessible only to authorized personnel. Access to records is limited to person(s) responsible for servicing the record in the performance of their official duties and who are properly screened and cleared for need-to-know. Access to computerized data is limited to Common Access Card enabled users and restricted by passwords, which are changed according to agency security policy.

Retention and disposal:

Records are to be cut off at the end of the fiscal year. Records will be destroyed 3 years after the cutoff by degaussing, shredding, or burning.

System manager(s) and address:

TIPS Program Manager, Defense Finance and Accounting Service-Indianapolis, 8899 East 56th Street, Indianapolis, IN 46249-0201.

Notification procedure:

Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, Employee ID Number for verification, current address to reply, and provide a reasonable description of what they are seeking.

Record access procedures:

Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, Employee ID Number verification, current address to reply, and telephone number.

Contesting record procedures:

The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.

Record source categories:

From the individual.

Exemptions claimed for the system:

None.

[FR Doc. 2015-27232 Filed 10-26-15; 8:45 am]

BILLING CODE 5001-06-P